DEPARTMENT OF ENERGY

Notice of Intent To Prepare an Environmental Impact Statement for Energy Conservation Standards for Manufactured Housing

AGENCY: Office of Energy Efficiency and Renewable Energy, U.S. Department of Energy.

ACTION: Notice of intent to prepare an environmental impact statement, to request public comments on its scope, and to conduct public scoping meetings.

SUMMARY: The U.S. Department of Energy (DOE) is required, as set forth in the Energy Independence and Security Act of 2007 (EISA), to establish energy conservation standards for manufactured housing. EISA further directs DOE to base its energy conservation standards on the most recent version of the International Energy Conservation Code (IECC), and any supplements to that document, except where DOE finds that the IECC is not cost effective or where a more stringent standard would be more cost effective. DOE's Office of Energy Efficiency and Renewable Energy (EERE) is currently planning to finalize a Supplemental Notice of Proposed Rulemaking (SNOPR) (on or before August 16, 2021) for publication in the Federal Register that will propose energy conservation standards for manufactured housing based on the 2021 IECC. In accordance with the National Environmental Policy Act of 1969 (NEPA), DOE NEPA Implementing Procedures and the Council on Environmental Quality (CEQ) regulations for implementing NEPA, DOE will prepare an environmental impact statement (DOE/EIS-0550) to evaluate the potential impacts to the human environment associated with the proposed energy conservation standards for manufactured housing.

DATES: The public scoping period for the EIS starts with the publication of this notice and ends on August 6, 2021. DOE will hold virtual informational/public scoping meetings on Wednesday, July 21, 2021 at 5:00 p.m.-7:00 p.m. Eastern Time and Thursday July 22, 2021 at 2:00 p.m.-4:00 p.m. Eastern Time. Details on how to participate in the virtual public meetings will be posted on the EIS web page at: https://ecs-mh.evs.anl.gov. In defining the scope of the EIS, DOE will consider all scoping comments received or postmarked by August 6, 2021.

ADDRESSES: Oral comments may be provided at the public scoping meetings. Written comments may be submitted online at: https://ecs-mh.evs.anl.gov or by mail at: Roak Parker, NEPA Document Manager, U.S. Department of Energy—Golden Field Office, 15013 Denver West Parkway, Golden, CO 80401.

FOR FURTHER INFORMATION CONTACT: For additional information on the scoping meetings and/or the EIS process, or to request to be added to an email list to receive updates on the EIS, contact Roak Parker via email at: DOE_EIS_MANUFACTURED_HOUSING@ee.doe.gov or via mail at: NEPA Document Manager, U.S. Department of Energy—Golden Field Office, 15013 Denver West Parkway, Golden, CO 80401. For general information on DOE's NEPA review process, contact Brian Costner, Director, Office of NEPA Policy and Compliance, GC-54, U.S. Department of Energy, 1000 Independence Avenue SW, Washington, DC 20585-0119, email AskNEPA@hq.doe.gov, telephone (202) 586-4600 or (800) 472-2756. This NOI, the draft EIS, and other documents, as they are available, will be posted at: https://ecs-mh.evs.anl.gov.

SUPPLEMENTARY INFORMATION: On February 22, 2010, DOE published an advanced notice of proposed rulemaking (ANOPR) and request for comment. See Energy Standards for Manufactured Housing, 75 FR 7556. DOE determined that the proposed rule would benefit from a negotiated rulemaking. On June 13, 2014, DOE published a notice of intent to establish a negotiated rulemaking Manufactured Housing working group, which consisted of representatives of interested stakeholders. See 79 FR 33873. The working group met a total of 12 days over a three-month period. See Energy Conservation Program: Energy Efficiency Standards for Manufactured Housing 80 FR 7550 (February 11, 2015). DOE also sought public comment and held numerous meetings with the U.S. Department of Housing and Urban Development (HUD), which sets construction and safety standards for manufactured homes, including the current energy efficiency requirements for manufactured homes (the “HUD Code,” 24 CFR part 3820). See 80 FR 7551-7553 (February 11, 2015), and 81 FR 39756 (June 17, 2016).

In June 2016, DOE issued a technical support document (See Document ID EERE-2009-BT-BC-0021-0136 ¹) and published a Notice of Proposed Rulemaking (NOPR) in the Federal Register that proposed to establish energy conservation standards for manufactured housing based on the negotiated consensus recommendations of the manufactured housing working group. 81 FR 39756 (June 17, 2016). In addition, DOE prepared a draft environmental assessment (EA) pursuant to NEPA to evaluate the potential environmental impacts of the proposed standards and requested information to help analyze potential impacts on indoor air quality (IAQ), notably from sealing manufactured homes more tightly. See Draft Environmental Assessment for Notice of Proposed Rulemaking, “Energy Conservation Standards for Manufactured Housing” With Request for Information on Impacts to Indoor Air Quality, 81 FR 42576 (June 30, 2016) (DOE/EA-2021). DOE received input on both the proposed rule and the draft EA. To help further inform certain aspects of the standards being developed and their underlying framework, DOE published a Notice of Data Availability (NODA) on August 3, 2018. See 83 FR 38073. In the NODA, DOE stated it was examining a number of factors and possible alternatives on which it sought further input from the public.

¹ Available at: https://www.regulations.gov/document?D=EERE-2009-BT-BC-0021-0136.

DOE has considered the information received, together with the recent issuance of the 2021 IECC, and intends to propose new energy conservation standards for manufactured housing that are based on the 2021 IECC, consistent with the considerations prescribed by EISA. DOE has determined that an EIS is the appropriate level of NEPA review to evaluate the potential environmental impacts associated with establishing energy conservation standards for manufactured housing based on the 2021 IECC (the proposed action). DOE/EA-2021 has been cancelled; however, information in the draft EA and comments received on the draft EA will be incorporated into the EIS, as appropriate.

Purpose and Need for Agency Action

DOE's purpose and need for agency action is to establish energy conservation standards for manufactured housing, in accordance with EISA Section 413. DOE's dual purpose is to satisfy these obligations and to help achieve the national goals of (a) saving energy, (b) reducing energy costs for manufactured homeowners, and (c) reducing outdoor pollutants and greenhouse gases.

Proposed Action

DOE's proposed action is to establish energy conservation standards for manufactured homes based on the 2021 IECC, consistent with the cost-effectiveness considerations identified in the EISA. In accordance with the EISA, which explicitly allows DOE to consider the differences in design and factory construction techniques of manufactured homes, as compared to site-built and modular homes, the energy conservation standards under consideration by DOE are based on certain specifications included in the 2021 IECC while also accounting for the unique aspects of manufactured housing. Because the IECC has not been specifically applied to manufactured homes, DOE's supplemental proposal will include modifications to those related IECC provisions that can be adapted for use in these homes. DOE is proposing energy efficiency standards for manufactured housing that relate to the building thermal envelope; air sealing; installation of insulation; duct sealing; heating, ventilation and air conditioning (HVAC); service hot water systems; mechanical ventilation fan efficacy; and heating and cooling equipment sizing.

Action Alternative

DOE is also considering an action alternative that uses a tiered approach to address affordability and cost-effectiveness concerns with respect to energy cost savings and the cost of efficiency improvements relative to the retail price of manufactured housing. In the action alternative, DOE is considering that for manufactured homes priced below a certain (to be determined) retail price, the stringency of certain building thermal envelope requirements would be based on incremental costs that provide a beneficial financial outcome with respect to life-cycle cost savings, while minimizing upfront cost impacts. Two sets of energy conservation standards would be established under the action alternative: Tier 1 standards would apply to manufactured homes priced at or below a retail price threshold and provide more limited improvements in efficiency up to a maximum incremental price increase; and Tier 2 standards would apply to homes above the retail price threshold. The Tier 2 standards would be the same as those considered under the proposed action. DOE has not yet determined the Tier 1 retail price threshold or the maximum incremental price increase. DOE is considering a retail price threshold from $50,000 to $100,000 and a maximum incremental price increase of $500 to $1,000. DOE will publish the Tier 1 threshold and maximum incremental price increase in the SNOPR. The draft EIS will analyze potential environmental impacts of the tiered approach as defined in the SNOPR as the action alternative.

The energy conservation standards proposed under either the proposed action or the action alternative would be based on the current climate zones in the HUD Code (24 CFR 3820.506) and would apply to homes manufactured on or after one year following the publication of a final rule for DOE's energy conservation standards for manufactured housing in the Federal Register.

No Action Alternative

NEPA requires consideration of a no action alternative. The no action alternative serves as the baseline to compare the potential environmental impacts of the proposed action and alternatives. As part of the EIS process, DOE will consider a no action alternative where DOE would not establish energy conservation standards for manufactured housing, and energy conservation requirements would remain at the levels established in the existing HUD Code.

Preliminary Identification of Environmental Issues

DOE's analysis and discussion in the EIS will focus on potentially significant environmental impacts. DOE's 2016 Draft EA (Draft Environmental Assessment for Notice of Proposed Rulemaking, “Energy Conservation Standards for Manufactured Housing” With Request for Information on Impacts to Indoor Air Quality, DOE/EA-2021) analyzed potential impacts related to indoor air, outdoor air, socioeconomics and environmental justice, and climate change. Other resource areas (such as sensitive ecosystems, geology and soils, and wetlands and floodplains) were considered and dismissed from detailed analysis because impacts of the proposed energy conservation standards would not be expected to have any measurable effects. Considering the analyses developed to support the draft EA, DOE anticipates that establishing energy conservation standards for manufactured housing would have potential impacts (beneficial, adverse, or both) in the same resource areas analyzed in the draft EA.

Accordingly, in the EIS, DOE anticipates evaluating potential impacts related to: (1) Indoor air quality and human health; (2) outdoor emissions of air pollutants and greenhouse gases; (3) energy consumption; (4) socioeconomics; (5) environmental justice; and (6) climate change. This list is not intended to be all-inclusive or to imply a predetermination of potential impacts. DOE invites interested stakeholders to suggest specific issues, including possible mitigation measures, within these general categories or others, to be considered in the EIS.

Public Participation

The purpose of the EIS scoping process is to gather input on the issues, concerns, possible alternatives, and potential significant impacts to the quality of the human environment that DOE should consider in the EIS. Persons and organizations affected by or interested in the proposed action are invited to participate in the scoping process to help define the important resources and issues to be analyzed in depth, and to eliminate other issues from detailed study in the EIS. Participants are anticipated to include, and are not limited to, agencies (Federal, State, county, and local), Native American tribes, public interest groups, nongovernmental organizations, businesses, trade associations, and individual members of the public.

There will be two scoping meetings, as described under the DATES section of this notice, to accommodate and encourage public participation. Each will be a virtual meeting (webcast) to avoid in-person interactions, toward mitigating any spread of the COVID-19 pandemic. DOE will post information on how to participate in the virtual public meetings on the EIS website listed previously, in advance of the meetings. The public will have the opportunity to present comments on the scope of the EIS. DOE representatives will be available to answer questions and provide additional information to meeting attendees. In addition to providing comments at the public scoping meetings, stakeholders may submit written comments as described in the ADDRESSES section.

The public is encouraged to provide information and comments on issues to be addressed in the EIS. Comments may be broad in nature or restricted to specific areas of concern, but they should be directly relevant to the NEPA process or potential environmental impacts. Note that public comments on the DOE SNOPR and its requirements, supporting bases, and analyses, that are unrelated to the NEPA process or potential environmental impacts, will be invited separately, pursuant to the rulemaking process, and will not be addressed during this EIS public scoping period. Instructions for providing those comments will be included with the publication of the SNOPR in the Federal Register.

DOE will consider the comments received on the scope of the EIS during the 30-day scoping period as it prepares the draft EIS. When the draft EIS is completed, a Notice of Availability of the draft EIS will be published in the Federal Register, which will begin a 45-day public comment period. This Notice of Availability will include instructions on how to comment on the draft EIS, which will be available for download from the EIS website identified previously. DOE is considering holding two virtual public hearings during the public comment period for the draft EIS.

DOE's EIS process will include the virtual public scoping meetings; consultation and coordination with appropriate Federal, State, county, and local agencies and tribal governments; making the draft EIS available for public review and comment; a virtual public hearing or hearings on the draft EIS; publication of the final EIS, with accessibility via the EIS website; and publication of the Record of Decision in the Federal Register. DOE will maintain information about the NEPA process, including documents, meeting information, and important dates, on the EIS website identified previously.

Signing Authority

This document of the Department of Energy was signed on June 28, 2021, by Mathew Blevins, Director, Environment, Safety, and Health Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 1, 2021.
Treena V. Garrett,
Federal Register Liaison Officer, U.S. Department of Energy.

[FR Doc. 2021-14484 Filed 7-6-21; 8:45 am]

BILLING CODE 6450-01-P